DEPARTMENT OF HOUSING AND URBAN DEVELOPMENT

[Docket No. FR-7001-N-08]

30-Day Notice of Proposed Information Collection: Closeout Instruction for Community Development Block Grant (CDBG) Program

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: April 16, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on August 25, 2017 at 82 FR 40590.

A. Overview of Information Collection

Title of Information Collection: Closeout instruction for CDBG Program.

OMB Approval Number: 2506-0193.

Type of Request: Reinstatement of a currently approved collection.

Form Number: HUD 7082-Funding Approval Form.

Description of the need for the information and proposed use: The closeout instructions apply to Community Development Block Grant (CDBG) programs (State CDBG Program, CDBG Disaster Recovery Supplemental Funding, CDBG-Recovery Act (CDBG-R)) and Neighborhood Stabilization Programs (NSP) 1, 2, & 3. Section 570.509 of the CDBG regulations contains the grant closeout criteria for Entitlement jurisdictions when HUD determines, in consultation with the recipients that a grant can be closed. The State CDBG program does not have a regulatory requirement for closeouts but has relied on administrative guidance. This is also true for the NSP, CDBG Disaster Recovery and CDBG-R programs administrated by the state. States will use the Notice as a vehicle to verify that State CDBG funds have been properly spent before a grant may be officially closed. The HUD field office will prepare and send a closeout package that includes a transmittal letter, grant closeout agreement, grantee closeout certification and a closeout checklist to the grantee via email or standard mail. The information in the closeout package will assist the Department in determining whether all requirements of the contract between the Department and the Grantee have been completed.

The HUD 7082 Funding Approval Form—The Grant Agreement between the Department of Housing and Urban Development (HUD) and the Grantee is made pursuant to the authority of Title I of the Housing and Community Development Act of 1974, as amended, (42 U.S.C. 5301 et seq.). HUD will make the funding assistance as specified to the grantee upon execution of the Agreement.

Respondents (i.e. affected public): This information collection applies to all States, Entitlement jurisdictions, Insular Areas, non-entitlement counties in Hawaii and those non-entitlement counties directly funded by NSP 3 and CDBG-DR.

Estimated Number of Respondents/Estimated Number of Responses: The estimated combined number of respondents is 3,294 for the grant closeout task and for the HUD 7082 funding approval form. The proposed frequency of the response to the collection of information is annual to initiate the grant closeout reporting and submission of the funding approval agreement.

Grant Closeout Form
Information collection | Number of respondents | Frequency of response | Responses per annum | Burden hour per response | Annual burden hours | Hourly cost per response ($) | Annual cost ($)
States Total | 182.00 | 1.00 | 182.00 | 3.00 | 546.00 | 30.05 | 16,407.30
Counties in Hawaii Total | 3.00 | 1.00 | 3.00 | 3.00 | 9.00 | 30.05 | 270.45
Entitlement Total | 1,490.00 | 1.00 | 1,490.00 | 3.00 | 4,470.00 | 30.05 | 134,323.50
Non-entitlement Total | 32.00 | 1.00 | 32.00 | 3.00 | 96.00 | 30.05 | 2,884.80
Non-Profits and Quasi-public Total | 20.00 | 1.00 | 20.00 | 3.00 | 60.00 | 30.05 | 1,803.00
Funding Approval Total | 1,727.00 | 1.00 | 1,727.00 | 3.00 | 5,181.00 | 30.05 | 155,689.05

Funding Approval/Agreement 7082 Form
Information collection | Number of respondents | Frequency of response | Responses per annum | Burden hour per response | Annual burden hours | Hourly cost per response ($) | Annual cost ($)
State Total | 132.00 | 1.00 | 132.00 | 0.25 | 33.00 | 30.05 | 991.65
Counties in Hawaii Total | 3.00 | 1.00 | 3.00 | 0.25 | 0.75 | 30.05 | 22.54
Entitlement Total | 1,399.00 | 1.00 | 1,399.00 | 0.25 | 349.75 | 30.05 | 10,509.99
Nonentitlement Total | 32.00 | 1.00 | 32.00 | 0.25 | 8.00 | 30.05 | 240.40
Nonentitlement Direct Grantees Total | 32.00 | 1.00 | 32.00 | 0.25 | 8.00 | 30.05 | 240.40
Funding Approval Total | 1,598.00 | 1.00 | 1,598.00 | 0.25 | 399.50 | 30.05 | 12,004.98
Grant Closeout/Form 7082 | 3,325.00 | 1.00 | 3,325.00 |  | 5,581.00 | 30.05 | 167,709.05
** GS 12, step 1 (2017 OMB tables).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: February 27, 2018.
Anna P. Guido,
Department Reports Management Officer, Office of the Chief Information Officer.

[FR Doc. 2018-05303 Filed 3-14-18; 8:45 am]

BILLING CODE 4210-67-P